DEPARTMENT OF STATE

[Public Notice: 6643]

60-Day Notice of Proposed Information Collection: Request for Reconsideration of Proviso(s); OMB Control Number 1405-0172.

ACTION: Notice of request for public comments.

SUMMARY: The Department of State is seeking Office of Management and Budget (OMB) approval for information collection described below. The purpose of this notice is to allow 60 days for public comment in the Federal Register preceding submission to OMB. We are conducting this process in accordance with the Paperwork Reduction Act of 1995.

Title of Information Collection: Request for Reconsideration of Proviso(s) Determination.

OMB Control Number: 1405-0172.

Type of Request: Extension of currently approved collection.

Originating Office: Bureau of Political Military Affairs, Directorate of Defense Trade Controls, PM/DDTC.

Form Number: None.

Respondents: Business organizations.

Estimated Number of Respondents: 120 (total).

Estimated Number of Responses: 350 (per year).

Average Hours Per Response: 1 hour.

Total Estimated Burden: 350 hours (per year).

Frequency: On Occasion.

Obligation to Respond: Mandatory.

DATES: The Department will accept comments from the public up to 60 days from August 3, 2009.

ADDRESSES: Comments and questions should be directed to Mary F. Sweeney, Office of Defense Trade Controls Policy, Department of State, who may be reached via the following methods:

E-mail: Sweeneymf@state.gov.

Mail: Mary F. Sweeney, SA-1, 12th Floor, Directorate of Defense Trade Controls, Bureau of Political Military Affairs, U.S. Department of State, Washington, DC 20522-0112.

Fax: 202-261-8199.

You must include the information collection title in the subject line of your message/letter.

FOR FURTHER INFORMATION CONTACT: Direct requests for additional information regarding the collection listed in this notice, including a copy of the supporting document, to Mary F. Sweeney, PM/DDTC, SA-1, 12th Floor, Directorate of Defense Trade Controls, Bureau of Political Military Affairs, U.S. Department of State, Washington, DC 20522-0112, who may be reached via phone at (202) 663-2865, or via e-mail at sweeneymf@state.gov.

SUPPLEMENTARY INFORMATION: We are soliciting public comments to permit the Department to:

Evaluate whether the proposed collection of information is necessary for the proper performance of our functions.

Evaluate the accuracy of our estimate of the burden of the proposed collection, including the validity of the methodology and assumptions used.

Enhance the quality, utility, and clarity of the information to be collected.

Minimize the reporting burden on those who are to respond, including the use of automated collection techniques or other forms of technology.

Abstract of proposed collection: To request a change in the proviso(s) placed on an export license, the applicant submits a letter requesting reconsideration of a particular proviso(s).

Methodology: This information collection is an exchange of letters and may be sent to the Directorate of Defense Controls via mail.

Dated: May 22, 2009.
Robert S. Kovac,
Acting Deputy Assistant Secretary for Defense Trade, Bureau of Political-Military Affairs, U.S. Department of State.

[FR Doc. E9-12660 Filed 6-1-09; 8:45 am]

BILLING CODE 4710-27-P